DEPARTMENT OF JUSTICE

Notice of Lodging of Consent Decree Resolving U.S. v. IBP Inc. (D. Nebraska)

Notice is hereby given that the United States, on behalf of the United States Environmental Protection Agency (“EPA”), intends, on or before February 4, 2002, to move for entry of the Consent Decree lodged with the United States District Court for the District of Nebraska on October 12, 2001. This Consent Decree, together with the Partial Consent Decree for Interim Injunctive Relief previously entered in this case, will fully resolve the United States' Complaint filed on January 12, 2000, in the District of Nebraska, alleging violations by IBP, inc. [sic] (“IBP”) of the Clean Air Act, 42 U.S.C. 7401 et seq.; the Clean Water Act, 33 U.S.C. 1311 et seq.; the Resource Conservation and Recovery Act, 42 U.S.C. 6901 et seq.; the Comprehensive Environmental Response, Compensation and Liability Act, 42 U.S.C. 9601 et seq.; and the Emergency Planning and Community Right-To-Know Act, 42 U.S.C. 11001 et seq., at its Dakota City Nebraska slaughterhouse facility.

Notice of the lodging of the Consent Decree was previously published in the Federal Register on November 15, 2001 (Volume 66, Number 221, Page 57484), triggering a thirty-day public comment period that expired on December 15, 2001. One set of comments was received during this period by facsimile transmission on December 12, 2001, from a Nebraska group called Citizens Promoting Environmental Stewardship, to which the United States will respond in connection with its motion to enter the Consent Decree. However, as a result of the discovery of anthrax contamination at the District of Columbia mail processing center, the delivery of regular first-class mail sent through the U.S. Postal Service has been disrupted. Consequently, any additional public comments on the proposed Consent Decree that were timely sent to the Department of Justice in Washington, DC, by regular, first-class mail through the U.S. Postal Service, but not sent by additional means such as overnight or facsimile transmission, have not been received. This notice, therefore, is intended to advise any such commenters that their comments on the Proposed Consent Decree have not been received to date. Any previously submitted comments thus should be re-submitted by January 31, 2002, addressed to the Assistant Attorney General, Environment and Natural Resources Division, Department of Justice, and sent: (1) c/o Howard Bunch, Office of Regional Counsel, U.S. Environmental Protection Agency, Region VII, 901 N. 5th St., Kansas City, Kansas 66101 and/or (2) by facsimile to (202) 353-0296; and/or (3) by overnight delivery, other than through the U.S. Postal Service, to Chief, Environmental Enforcement Section, 1425 New York Avenue, NW., 13th Floor, Washington, DC 20005. Each communication should refer on its face to United States v. IBP, DOJ Ref. #90-11-3-06517/1. Any such re-submitted comments will be evaluated and responded to prior to any final decision by the United States to move to enter the Consent Decree.

Robert E. Maher,
Assistant Section Chief, Environmental Enforcement Section, Environment and Natural Resources Division.

[FR Doc. 02-1297 Filed 1-17-02; 8:45 am]

BILLING CODE 4410-15-M